DEPARTMENT OF AGRICULTURE

Forest Service

Deschutes Provincial Advisory Committee (DPAC)

AGENCY: Forest Service, USDA.

ACTION: Notice of meeting.

SUMMARY: The Deschutes Provincial Advisory Committee will meet on September 23, 2003 starting at 8 a.m. at the Supervisor's Office at 1645 Highway 20 east, Bend, Oregon. The agenda will include a field tour to discuss fire restoration. Also, one hour will be allocated to info sharing and a Public Forum from 3 p.m. till 3:30 p.m. All Deschutes Province Advisory Committee Meetings are open to the public.

FOR FURTHER INFORMATION CONTACT: Chris Mickle, Province Liaison, Deschutes NF, Crescent RD, P.O. Box 208, Crescent, OR, 97754, Phone (541) 433-3216.

Dated: September 11, 2003.
Leslie A.C. Weldon,
Deschutes National Forest Supervisor.

[FR Doc. 03-23680 Filed 9-16-03; 8:45 am]

BILLING CODE 3410-11-M